DEPARTMENT OF ENERGY

Federal Energy Regulatory Commission

Combined Notice of Filings #1

Take notice that the Commission received the following electric corporate filings:

Docket Numbers: EC14-76-000.

Applicants: Twin Eagle Resource Management, LLC, Enserco Energy LLC, TERM Holdings, LLC.

Description: Application under FPA Section 203 of Twin Eagle Resource Management, LLC, et. al.

Filed Date: 4/17/14.

Accession Number: 20140417-5145.

Comments Due: 5 p.m. ET 5/8/14.

Take notice that the Commission received the following electric rate filings:

Docket Numbers: ER14-321-001.

Applicants: The Connecticut Light and Power Company.

Description: Compliance of Localized Cost Responsibility Agreement Town of Wallingford & CL&P to be effective 1/1/2014.

Filed Date: 4/17/14.

Accession Number: 20140417-5043.

Comments Due: 5 p.m. ET 5/8/14.

Docket Numbers: ER14-990-002.

Applicants: Midcontinent Independent System Operator, Inc.

Description: 2014-17-04_Docket No. ER14-990-001_Amended Compliance DR/EER Netting to be effective 3/15/2014.

Filed Date: 4/17/14.

Accession Number: 20140417-5045.

Comments Due: 5 p.m. ET 5/8/14.

Docket Numbers: ER14-1468-001.

Applicants: KMC Thermo, LLC.

Description: Supplement to market-based rate application to be effective 5/16/2014.

Filed Date: 4/16/14.

Accession Number: 20140416-5168.

Comments Due: 5 p.m. ET 5/7/14.

Docket Numbers: ER14-1728-000.

Applicants: Commonwealth Edison Company, PJM Interconnection, L.L.C.

Description: ComEd submits ministerial revision to FERC Form 1 reference—PJM OATT Att H-13A to be effective 6/1/2014.

Filed Date: 4/16/14.

Accession Number: 20140416-5161.

Comments Due: 5 p.m. ET 5/7/14.

Docket Numbers: ER14-1729-000.

Applicants: California Independent System Operator Corporation.

Description: 2014-04-16_NVE_EIMIA to be effective 6/16/2014.

Filed Date: 4/16/14.

Accession Number: 20140416-5166.

Comments Due: 5 p.m. ET 5/7/14.

Docket Numbers: ER14-1730-000.

Applicants: American Electric Power Service Corporation, Ohio Power Company, AEP Ohio Transmission Company, Inc., PJM Interconnection, L.L.C.

Description: AEP submits 41st Revised Service Agreement No. 1336 to be effective 3/21/2014.

Filed Date: 4/16/14.

Accession Number: 20140416-5167.

Comments Due: 5 p.m. ET 5/7/14.

Docket Numbers: ER14-1731-000.

Applicants: PJM Interconnection, L.L.C.

Description: Notice of Cancellation of Original Service Agreement No. 3331; Queue No. X1-100 to be effective 5/6/2014.

Filed Date: 4/17/14.

Accession Number: 20140417-5037.

Comments Due: 5 p.m. ET 5/8/14.

Docket Numbers: ER14-1732-000.

Applicants: Public Service Company of Colorado.

Description: 2014-4-17_PSC-BIV-ISA-ISA-153-0.0.0-Agrmt to be effective 6/16/2014.

Filed Date: 4/17/14.

Accession Number: 20140417-5050.

Comments Due: 5 p.m. ET 5/8/14.

Docket Numbers: ER14-1733-000.

Applicants: Southwest Power Pool, Inc.

Description: Submission of Notice of Cancellation of Designee Qualification and Novation Agreement of Southwest Power Pool, Inc.

Filed Date: 4/17/14.

Accession Number: 20140417-5190.

Comments Due: 5 p.m. ET 5/8/14.

Docket Numbers: ER14-1734-000.

Applicants: Public Service Company of Colorado.

Description: 2014-4-17_PSC-FONTN-A&R-GIA-107-0.0.0-Agrmt to be effective 6/16/2014.

Filed Date: 4/17/14.

Accession Number: 20140417-5194.

Comments Due: 5 p.m. ET 5/8/14.

Docket Numbers: ER14-1735-000.

Applicants: New York Independent System Operator, Inc.

Description: 205 Fuel Indexing Day-Ahead Reference Levels to be effective 12/31/9998.

Filed Date: 4/17/14.

Accession Number: 20140417-5198.

Comments Due: 5 p.m. ET 5/8/14.

Docket Numbers: ER14-1736-000.

Applicants: Midcontinent Independent System Operator, Inc.

Description: 2014-04-17_Cost Recovery Mechanism to be effective 1/29/2014.

Filed Date: 4/17/14.

Accession Number: 20140417-5201.

Comments Due: 5 p.m. ET 5/8/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 17, 2014.
Nathaniel J. Davis, Sr.,
Deputy Secretary.

[FR Doc. 2014-09518 Filed 4-25-14; 8:45 am]

BILLING CODE 6717-01-P